DEPARTMENT OF DEFENSE

Department of the Navy

Notice of Intent To Prepare a Supplemental Environmental Impact Statement/Overseas Environmental Impact Statement for Mariana Islands Training and Testing

AGENCY: Department of the Navy, DOD.

ACTION: Notice.

SUMMARY: Pursuant to the National Environmental Policy Act (NEPA) of 1969 and regulations implemented by the Council on Environmental Quality, the Department of the Navy (DoN) announces its intent to prepare a supplement to the 2015 Final Mariana Islands Training and Testing (MITT) Environmental Impact Statement/Overseas Environmental Impact Statement (EIS/OEIS).

DATES: Public scoping meetings will not be held, but public comments will be accepted during the scoping period from August 1, 2017 to September 15, 2017.

ADDRESSES: The DoN invites scoping comments on the MITT Supplemental EIS/OEIS from all interested parties. Substantive comments may be provided by mail to the address below and through the project Web site at http://mitt-eis.com/. Comments must be postmarked or received by September 15, 2017, for consideration during the development of the Draft Supplemental EIS/OEIS.

FOR FURTHER INFORMATION CONTACT: Naval Facilities Engineering Command Pacific, Attention: MITT Supplemental EIS/OEIS Project Manager, 258 Makalapa Drive, Suite 100, Pearl Harbor, HI 96860-3134.

SUPPLEMENTARY INFORMATION: The Navy will assess the potential environmental impacts associated with ongoing and proposed military readiness activities conducted within the MITT EIS/OEIS Study Area (hereafter known as the “Study Area”). The Supplement to the 2015 Final EIS/OEIS is being prepared to support ongoing and future activities conducted at sea and on Farallon de Medinilla (FDM) within the Study Area beyond 2020. Military readiness activities include training and research, development, testing, and evaluation (hereafter known as “testing”). The Supplemental EIS/OEIS will include an analysis of training and testing activities using new information available after the release of the 2015 Final MITT EIS/OEIS. New information includes an updated acoustic effects model, updated marine mammal density data, and other best available science. Proposed activities are generally consistent with those analyzed in the 2015 Final MITT EIS/OEIS and are representative of training and testing activities the DoN has been conducting in the Study Area for decades.

The Study Area remains unchanged since the 2015 Final MITT EIS/OEIS. The Study Area includes the existing Mariana Islands Range Complex (MIRC); areas on the high seas to the north and west of the MIRC; a transit corridor between the MIRC and the Hawaii Range Complex, starting at the International Date Line; and Apra Harbor and select DoN pierside and harbor locations. The Study Area includes only the in-water components of the range complex and FDM; land components associated with the range complex are not included in the Study Area.

As part of this process the DoN will seek the issuance of regulatory permits and authorizations under the Marine Mammal Protection Act and Endangered Species Act to support training and testing requirements within the Study Area, beyond 2020, thereby ensuring critical Department of Defense requirements are met.

Pursuant to 40 CFR 1501.6, the DoN will invite the National Marine Fisheries Service to be a cooperating agency in preparation of the Supplemental EIS/OEIS.

The DoN's lead action proponent is Commander, U.S. Pacific Fleet. Additional action proponents include Naval Sea Systems Command, Naval Air Systems Command, and the Office of Naval Research.

The DoN's Proposed Action is to conduct military training and testing activities within the Study Area. Activities include the use of active sonar and explosives while employing appropriate marine species protective mitigation measures. The Proposed Action does not alter the DoN's original purpose and need as presented in the 2015 MITT Final EIS/OEIS.

The purpose of the Proposed Action is to maintain a ready force, which is needed to ensure the military can accomplish its mission to maintain, train, and equip combat-ready naval forces capable of winning wars, deterring aggression, and maintaining freedom of the seas, consistent with Congressional direction in section 5062 of Title 10 of the U.S. Code. A Supplemental EIS/OEIS is considered the appropriate document, as there is recent scientific information including revised acoustic criteria to consider, in furtherance of NEPA, relevant to the environmental effects of the DoN's Proposed Action, and the analysis will support Marine Mammal Protection Act authorization requests.

Proposed training and testing activities are generally consistent to those analyzed in the 2015 MITT Final EIS/OEIS. The Supplemental EIS/OEIS will propose changes to the tempo and types of training and testing activities, accounting for the introduction of new technologies, the evolving nature of international events, advances in war fighting doctrine and procedures, and changes in the organization of vessels, aircraft, weapon systems, and military personnel. The MITT Supplemental EIS/OEIS will reflect the compilation of training and testing activities required to fulfill the DoN's military readiness requirements beyond 2020, and therefore includes the analysis of newly proposed activities and changes to previously analyzed activities.

In the Supplemental EIS/OEIS, the DoN will evaluate the potential environmental impacts of a No Action Alternative and action alternatives. Resources to be evaluated include, but are not limited to, marine mammals, sea turtles, essential fish habitat, and threatened and endangered species.

The scoping process is used to identify public concerns and local issues to be considered during the development of the Draft Supplemental EIS/OEIS. Federal agencies, local agencies, the public, and interested persons are encouraged to provide substantive comments to the DoN on environmental resources and issue areas of concern the commenter believes the DoN should consider.

Comments must be postmarked or received online by September 15, 2017, for consideration during the development of the Draft Supplemental EIS/OEIS. Comments can be mailed to: Naval Facilities Engineering Command Pacific, Attention: MITT Supplemental EIS/OEIS Project Manager, 258 Makalapa Drive, Suite 100, Pearl Harbor, HI, 96869-3134. Comments can be submitted online via the project Web site at http://mitt-eis.com/.

Dated: July 20, 2017.
A.M. Nichols,
Lieutenant Commander, Judge Advocate General's Corps, U.S. Navy, Federal Register Liaison Officer.

[FR Doc. 2017-15939 Filed 7-31-17; 8:45 am]

BILLING CODE 3810-FF-P